DEPARTMENT OF HOUSING AND URBAN DEVELOPMENT

[Docket No. FR-4809-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Steward B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Ms. Teresa Sheinberg, U.S. Coast Guard, Room 6109, 2100 Second Street., SW., Washington, DC 20593-0001; (202) 267-6142; Energy: Mr. Andy Duran, Department of Energy, Office of Engineering & Construction Management, ME-90, Washington, DC 20585; (202) 586-4548; GSA: Mr. Brian K. Polly, Assistant Commissioner, General Services Administration, Office of Property Disposal, 18th and F Streets, NW., Washington, DC 20405; (202) 501-0052; Interior: Ms. Linda Tribby, Acquisition and Property Management, Department of the Interior, 1849 C Street, NW., MS5512, Washington, DC 20240; (202) 219-0728; Navy: Mr. Charles C. Cooks, Director, Department of the Navy, Real Estate Policy Division, Naval Facilities Engineering Command, Washington Navy Yard, 1322 Patterson Ave., SE., Suite 1000, Washington, DC 20374-5065; (202) 685-9200; (These are not toll-free numbers).

Dated: July 10, 2003.
Mark R. Johnson,
Deputy Director, Office of Special Needs Assistance Programs.

Title V, Federal Surplus Property Program Federal Register Report for 7/18/03

Suitable/Available Properties

Buildings (by States)

Indiana

Paulsen U.S. Army Reserve Ctr

800 East Crystal

N. Judson Co: Starke IN 46366—

Landholding Agency: GSA

Property Number: 54200330001

Status: Surplus

Comment: 13,114 sq. ft., presence of asbestos/lead paint, most recent use—office/training/vehicle maint. and repair

GSA Number: 1-D-IN-597

Unsuitable Properties

Building (by State)

California

Bldg. 56

Naval Air Station

Lemoore Co: CA

Landholding Agency: Navy

Property Number: 77200330001

Status: Excess

Reasons: Secured Area; Extensive deterioration

Structure 63

Naval Air Station

Lemoore Co: CA

Landholding Agency: Navy

Property Number: 77200330002

Status: Excess

Reason: Secured Area

Structure 64

Naval Air Station

Lemoore Co: CA

Landholding Agency: Navy

Property Number: 77200330003

Status: Excess

Reason: Secured Area

Structure 65

Naval Air Station

Lemoore Co: CA

Landholding Agency: Navy

Property Number: 77200330004

Status: Excess

Reasons: Secured Area

Bldg. 70

Naval Air Station

Lemoore Co: CA

Landholding Agency: Navy

Property Number: 77200330005

Status: Excess

Reasons: Secured Area; Extensive deterioration

Bldg. 75

Naval Air Station

Lemoore Co: CA

Landholding Agency: Navy

Property Number: 77200330006

Status: Excess

Reasons: Secured Area; Extensive deterioration

Bldg. 776

Naval Air Station

Lemoore Co: CA

Landholding Agency: Navy

Property Number: 77200330007

Status: Excess

Reasons: Secured Area; Extensive deterioration

Bldg. 818

Naval Air Station

Lemoore Co: CA

Landholding Agency: Navy

Property Number: 77200330008

Status: Excess

Reasons: Secured Area; Extensive deterioration

Bldg. 827

Naval Air Station

Lemoore Co: CA

Landholding Agency: Navy

Property Number: 77200330009

Status: Excess

Reasons: Secured Area; Extensive deterioration

Bldg. 931

Naval Air Station

Lemoore Co: CA

Landholding Agency: Navy

Property Number: 77200330010

Status: Excess

Reasons: Secured Area; Extensive deterioration

Bldg. 935

Naval Air Station

Lemoore Co: CA

Landholding Agency: Navy

Property Number: 77200330011

Status: Excess

Reasons: Secured Area; Extensive deterioration

Colorado

Bldg. 574

National Park

Old Glacier Creek

Rocky Mountain Co: Larimer CO 80517-

Landholding Agency: Interior

Property Number: 61200330001

Status: Unutilized

Reasons: Extensive deterioration

Bldg. B-777

National Park

Conservation Camp

Rocky Mountain Co: Grand CO 80447-

Landholding Agency: Interior

Property Number: 61200330002

Status: Unutilized

Reasons: Not accessible; Extensive deterioration

Bldg. B-781

National Park

Conservation Camp

Rocky Mountain Co: Grand CO 80447-

Landholding Agency: Interior

Property Number: 61200330003

Status: Unutilized

Reasons: Not accessible; Extensive deterioration

Bldg. B-852

National Park

Conservation Camp

Rocky Mountain Co: Grand CO 80447-

Landholding Agency: Interior

Property Number: 61200330004

Status: Unutilized

Reason: Not accessible

Wales Bldg. B-816

National Park

Rocky Mountain Co: Grand CO 80447-

Landholding Agency: Interior

Property Number: 61200330005

Status: Unutilized

Reason: Extensive deterioration

Wales Bldg. B-817

National Park

Rocky Mountain Co: Grand CO 80447-

Landholding Agency: Interior

Property Number: 61200330006

Status: Unutilized

Reason: Extensive deterioration

Wales Bldg. B-818

National Park

Rocky Mountain Co: Grand CO 80447-

Landholding Agency: Interior

Property Number: 61200330007

Status: Unutilized

Reason: Extensive deterioration

Maryland

Bloody Pt Bar Lighthouse

Chesapeake Bay

Kent Co: MD

Landholding Agency: GSA

Property Number: 54200330002

Status: Excess

Reason: Not accessible

GSA Number: 4-U-MD-0612

Bldg. 503A

Naval Air Station

Patuxent River Co: MD

Landholding Agency: Navy

Property Number: 77200330012

Status: Excess

Reason: Extensive deterioration

Massachusetts

Kennedy Barn/Garage

National Seashore

Eastham Co: Barnestable MA 02642-

Landholding Agency: Interior

Property Number: 61200330011

Status: Unutilized

Reason: Extensive deterioration

Nevada

31 Bldgs./Facilities

Nellis AFB

Tonopah Test Range

Tonopah Co: Nye NV 89049-

Landholding Agency: Energy

Property Number: 41200330003

Status: Unutilized

Reason: Secured Area

New Jersey

Bldg. 260

Coast Guard Training Center

Cape May Co: NJ 08204-

Landholding Agency: Coast Guard

Property Number: 88200330001

Status: Excess

Reasons: Secured Area; Extensive deterioration

Structure U02

Coast Guard Training Center

Cape May Co: NJ 08204-

Landholding Agency: Coast Guard

Property Number: 88200330002

Status: Excess

Reason: Secured Area

New York

Bldg. 208

Brookhaven National Lab

Upton Co: Suffolk NY 11973-

Landholding Agency: Energy

Property Number: 41200330001

Status: Unutilized

Reason: Extensive deterioration

Bldg. 209

Brookhaven National Lab

Upton Co: Suffolk NY 11973-

Landholding Agency: Energy

Property Number: 41200330002

Status: Unutilized

Reason: Extensive deterioration

Pennsylvania

Bldg. 106

Naval Support Activity

Mechanicsburg Co: Cumberland PA 17055-0788

Landholding Agency: Navy

Property Number: 77200330013

Status: Excess

Reason: Extensive deterioration

Bldg. 906

Naval Support Activity

Mechanicsburg Co: Cumberland PA 17055-0788

Landholding Agency: Navy

Property Number: 77200330014

Status: Excess

Reason: Extensive deterioration

Tennessee

Clinton Property

Stones River National Battlefield

Murfreesboro Co: Rutherford TN 37129-

Landholding Agency: Interior

Property Number: 61200330012

Status: Excess

Reason: Extensive deterioration

Smith Property

Stones River National Battlefield

Murfreesboro Co: Rutherford TN 37129-

Landholding Agency: Interior

Property Number: 61200330013

Status: Excess

Reason: Extensive deterioration

Virginia

Church Street Quarters (204)

Colonial National Park

Yorktown Co: York VA 23690-

Landholding Agency: Interior

Property Number: 61200330008

Status: Excess

Reason: Extensive deterioration

Church Street Quarters (205)

Colonial National Park

Yorktown Co: York VA 23690-

Landholding Agency: Interior

Property Number: 61200330009

Status: Excess

Reason: Extensive deterioration

Nelson Property

Colonial National Park

Yorktown Co: York VA 23690-

Landholding Agency: Interior

Property Number: 61200330010

Status: Excess

Reason: Extensive deterioration

Unsuitable Properties

Buildings (by State)

Virginia

Bldg. CG-2 (0S01)

USCG CAMSLANT

Chesapeake Co: VA

Landholding Agency: Coast Guard

Property Number: 88200330003

Status: Unutilized

Reason: Secured Area

Bldg. CG-6 (0S02)

USCG CAMSLANT

Chesapeake Co: VA

Landholding Agency: Coast Guard

Property Number: 88200330004

Status: Unutilized

Reason: Secured Area

Bldg. (0V02)

USCG CAMSLANT

Chesapeake Co: VA

Landholding Agency: Coast Guard

Property Number: 88200330005

Status: Unutilized

Reasons: Secured Area; Extensive deterioration

Bldg. (0V03)

USCG CAMSLANT

Chesapeake Co: VA

Landholding Agency: Coast Guard

Property Number: 88200330006

Status: Unutilized

Reasons: Secured Area; Extensive deterioration

Washington

Barn

Heart K Ranch

Near Thorp Co: Kittitas WA 98946-

Landholding Agency: Interior

Property Number: 61200330014

Status: Unutilized

Reason: Extensive deterioration

Garage/Shop

Heart K Ranch

Near Thorp Co: Kittitas WA 98946-

Landholding Agency: Interior

Property Number: 61200330015

Status: Unutilized

Reason: Extensive deterioration

1-Stall Garage

Heart K Ranch

Near Thorp Co: Kittitas WA 98946-

Landholding Agency: Interior

Property Number: 61200330016

Status: Unutilized

Reason: Extensive deterioration

Residence

Heart K Ranch

Near Thorp Co: Kittitas WA 98946-

Landholding Agency: Interior

Property Number: 61200330017

Status: Unutilized

Reason: Extensive deterioration

Storage

Heart K Ranch

Near Thorp Co: Kittitas WA 98946-

Landholding Agency: Interior

Property Number: 61200330018

Status: Unutilized

Reason: Extensive deterioration

Residence No. 50

1807 Rest Haven Road

Yakima Co: WA 98901-

Landholding Agency: Interior

Property Number: 61200330019

Status: Unutilized

Reason: Extensive deterioration

Cow Barn

1807 Rest Haven Road

Yakima Co: WA 98901-

Landholding Agency: Interior

Property Number: 61200330020

Status: Unutilized

Reason: Extensive deterioration

Chicken Coop

1807 Rest Haven Road

Yakima Co: WA 98901-

Landholding Agency: Interior

Property Number: 61200330021

Status: Unutilized

Reason: Extensive deterioration

[FR Doc. 03-17856 Filed 7-17-03; 8:45 am]

BILLING CODE 4210-29-M